DEPARTMENT OF TRANSPORTATION

Maritime Administration

Marine Transportation System National Advisory Council

ACTION: National Advisory Council Public Meeting.

SUMMARY: The Maritime Administration announces that the Marine Transportation System National Advisory Council (MTSNAC) will hold a meeting to review an expanded Marine Transportation System outreach and education program that addresses future workforce needs, environmental issues, and freight mobility; public and private sector data collection efforts; and an update and revision of the Council's Intermodal Report. A public comment period is scheduled for 9 a.m. to 9:30 a.m. on Wednesday, June 4, 2008. To provide time for as many people to speak as possible, speaking time for each individual will be limited to three minutes. Members of the public who would like to speak are asked to contact Richard J. Lolich by May 28, 2008. Commenters will be placed on the agenda in the order in which notifications are received. If time allows, additional comments will be permitted. Copies of oral comments must be submitted in writing at the meeting. Additional written comments are welcome and must be filed by June 13, 2008.

DATES: The meeting will be held on Tuesday, June 3, 2008, from 8:30 a.m. to 5 p.m. and Thursday, June 4, 2008, from 8:30 a.m. to 12:30 p.m.

ADDRESSES: The meeting will be held in the Sheraton St. Louis City Center Hotel, 400 South 14th Street, St. Louis, MO 63103. The hotel's phone number is 314-231-5007.

FOR FURTHER INFORMATION CONTACT: Richard Lolich, (202) 366-0704; Maritime Administration, MAR-540, Room W21-309, 1200 New Jersey Ave., SE., Washington, DC 20590-0001; richard.lolich@dot.gov.

Authority: 5 U.S.C. App 2, Sec. 9(a)(2); 41 CFR 101-6. 1005; DOT Order 1120.3B.

Dated: May 7, 2008.
Christine Gurland,
Acting Secretary, Maritime Administration.

[FR Doc. E8-10540 Filed 5-12-08; 8:45 am]

BILLING CODE 4910-81-P